DEPARTMENT OF TRANSPORTATION

Federal Transit Administration

FY 2024 Competitive Funding Opportunity: Low or No Emission Grant Program and the Grants for Buses and Bus Facilities Competitive Program

AGENCY: Federal Transit Administration (FTA), Department of Transportation (DOT).

ACTION: Notice of funding opportunity (NOFO).

SUMMARY: The Federal Transit Administration (FTA) announces the opportunity to apply for approximately $1.10 billion in competitive grants under the fiscal year (FY) 2024 Low or No Emission Grant Program (Low-No Program) (Federal Assistance Listing: 20.526) and approximately $390 million in competitive grants under the FY 2024 Grants for Buses and Bus Facilities Program (Buses and Bus Facilities Program) (Federal Assistance Listing 20.526), subject to availability of appropriated funding.

DATES: Complete proposals must be submitted electronically through the GRANTS.GOV “APPLY” function by 11:59 p.m. eastern time on April 25, 2024. Prospective applicants should initiate the process by registering on the GRANTS.GOV website promptly to ensure completion of the application process before the submission deadline.

ADDRESSES: Instructions for applying can be found on FTA's website at https://www.transit.dot.gov/howtoapply and in the “FIND” module of GRANTS.GOV. The funding opportunity ID is FTA-2024-003-TPM-LWNO for Low-No applications and FTA-2024-004-TPM-BUS for Buses and Bus Facilities applications. Please note, if an applicant is choosing to apply to both programs, the applicant must submit a separate GRANTS.GOV package to each opportunity ID. Applicants should also select both programs and respond to all questions needed for both programs on the supplemental form. Mail and fax submissions will not be accepted.

FOR FURTHER INFORMATION CONTACT: Either Program may be contacted by email at FTALowNoBusNOFO@dot.gov, or applicants may call Kirsten Wiard-Bauer, FTA Office of Program Management, at 202-366-7052.

SUPPLEMENTARY INFORMATION: As required by Federal public transportation law, Low-No Program funds will be awarded competitively for the purchase or lease of low or no emission vehicles that use advanced technologies for transit revenue operations, including related equipment or facilities. As required by Federal public transportation law, Buses and Bus Facilities Program funds will be awarded competitively to assist in the financing of capital projects to replace, rehabilitate, purchase, or lease buses and related equipment, and to rehabilitate, purchase, construct or lease bus-related facilities. Any zero-emission project(s) or components of a project will include costs for workforce development, unless the applicant certifies funds are not needed for this purpose. In general, projects may include costs incidental to the acquisition of buses or to the construction of facilities, such as the costs of related workforce development and training activities, and project administration expenses, as long as the project proposed includes and results in an eligible capital asset being leased, purchased, or built. As these two programs have overlapping eligibilities and must be implemented on the same timeline as required by 49 U.S.C. 5339, FTA is publishing this joint NOFO. Per Federal public transportation law, FTA will award grants for these programs within 75 days after the date this solicitation expires from funds available for award at that time. FTA may award additional funding that is made available to the programs prior to the announcement of project selections.

Summary Overview of Key Information: Low or No Emission (Low-No) Program and the Grants for Buses and Bus Facilities Competitive (Buses and Bus Facilities) Program
Issuing agency | Federal Transit Administration, US Department of Transportation
Program Overview | The Low-No Program provides funding for the purchase or lease of zero-emission and low-emission transit buses, including acquisition, construction, and leasing of required supporting facilities such as recharging, refueling, and maintenance facilities.
| The Buses and Bus Facilities Program provides funding for capital projects to replace, rehabilitate, purchase, or lease buses and related equipment, or to rehabilitate, purchase, construct, or lease bus-related facilities.
Eligible Applicants | Low-No Program: Designated recipients, States (including territories and Washington, DC), local governmental authorities, and Indian tribes. Proposals for funding projects in rural areas must be submitted as part of a State application.
| Buses and Bus Facilities Program: Designated recipients that allocate funds to fixed route bus operators, States (including territories and Washington, DC), or local governmental entities that operate fixed route bus service, and Indian tribes. Eligible subrecipients include all otherwise eligible applicants and also private nonprofit organizations engaged in public transportation.
Eligible Project Types | Low-No Program: • Purchase or lease low or no emission buses; • Acquiring low or no emission buses with a leased power source; • Constructing or leasing facilities and related equipment (including intelligent technology and software) for low or no emission buses; • Constructing new public transportation facilities to accommodate low or no emission buses; • Rehabilitating or improving existing public transportation facilities to accommodate low or no emission buses; • Additionally, 0.5% of the Federal request may be used for workforce development training and an additional 0.5% may be used for training at the National Transit Institute (NTI). Note, applicants proposing any project related to zero-emission vehicles and related facilities must also spend 5% of their award on workforce development and training as outlined in their Zero-Emission Fleet Transition Plan, unless the applicant certifies that their financial need is less.
| Buses and Bus Facilities Program: • Capital projects to replace, rehabilitate, purchase, or lease buses, vans, or related equipment; • Rehabilitate, purchase, construct, or lease bus-related facilities regardless of propulsion type or emissions; • Additionally, 0.5% of the Federal request may be used for workforce development training and an additional 0.5% may be used for training at the National Transit Institute (NTI). Note, applicants proposing any project related to zero-emission vehicles and related facilities must also spend 5% of their award on workforce development and training as outlined in their Zero-Emission Fleet Transition Plan, unless the applicant certifies that their financial need is less.
Funding | Low-No Program: $1,103,963,762. Buses and Bus Facilities Program: $390,045,823. Additional funds made available prior to project selection may be allocated to eligible projects.
Deadline | April 25, 2024 at 11:59 p.m. eastern time.

Table of Contents

A. Program Description

B. Federal Award Information

C. Eligibility Information

D. Application and Submission Information

E. Application Review Information

F. Federal Award Administration Information

G. Federal Awarding Agency Contacts

H. Other Information

A. Program Description

This is a joint NOFO that announces the availability of FY 2024 funding for both the Low-No and the Buses and Bus Facilities Programs.

Federal public transportation law (49 U.S.C. 5339(c)) authorizes FTA to award grants for low or no emission bus projects through a competitive process, as described in this notice. The Low-No Program provides funding to States (including territories and Washington, DC), local governmental authorities, and tribal governments for the purchase or lease of zero-emission and low-emission transit buses, including acquisition, construction, and leasing of required supporting facilities such as recharging, refueling, and maintenance facilities.

Federal public transportation law (49 U.S.C. 5339(b)) authorizes FTA to award grants for the Buses and Bus Facilities Program through a competitive process, as described in this notice. Grants under this program are for capital projects to replace, rehabilitate, purchase, or lease buses and related equipment, or to rehabilitate, purchase, construct, or lease bus-related facilities.

The Department seeks to fund projects under the Low-No and the Buses and Bus Facilities Programs that reduce greenhouse gas emissions in the transportation sector; incorporate evidence-based climate resilience measures and features; avoid adverse environmental impacts to air or water quality, wetlands, and endangered species; and address the disproportionate negative environmental impacts of transportation on disadvantaged communities, consistent with Executive Order 14008, Tackling the Climate Crisis at Home and Abroad (86 FR 7619).

In addition, the Department seeks to fund projects under the Low-No and the Buses and Bus Facilities Programs that create proportional impacts to all populations in a project area, remove transportation related disparities to all populations in a project area, and increase equitable access to project benefits, consistent with Executive Order 13985, Advancing Racial Equity and Support for Underserved Communities Through the Federal Government (86 FR 7009). The Department also seeks to award projects that address equity and environmental justice, particularly for communities that have experienced decades of underinvestment and are most impacted by climate change, pollution, and environmental hazards, consistent with Executive Order 14008, Tackling the Climate Crisis at Home and Abroad (86 FR 7619). In addition, the Department intends to use the Low-No and the Buses and Bus Facilities Programs to support the creation of good-paying jobs with the free and fair choice to join a union and the incorporation of strong labor standards and training and placement programs, especially registered apprenticeships, in project planning stages, consistent with Executive Order 14025, Worker Organizing and Empowerment (86 FR 22829) and Executive Order 14052, Implementation of the Infrastructure Investment and Jobs Act (86 FR 64335). The Department also intends to use the Low-No and the Buses and Bus Facilities Programs to support wealth creation, consistent with the Department's Equity Action Plan (https://www.transportation.gov/priorities/equity/equity-action-plan), through the inclusion of local inclusive economic development and entrepreneurship such as the utilization of Disadvantaged Business Enterprises.

In order to support efficient and cost-effective vehicle procurements, FTA will provide priority consideration to applicants that identify their intent to use a procurement method that reduces vehicle customization, by either: identifying an intent for a joint procurement with at least three total transit agencies using a common specification; or committing to using a standard vehicle model. To strengthen the American vehicle manufacturing industry and reduce the financial burden the industry currently faces, FTA will give priority consideration to applicants that identify their intent to use contract terms that provide funding to vehicle original equipment manufacturer (OEMs) earlier in the production process, either by using advance payments or progress payments.

B. Federal Award Information

Federal public transportation law (49 U.S.C. 5338(a)(2)(N)) authorizes $74,963,762 in FY 2024 for the Low-No Program. The 2021 Bipartisan Infrastructure Law (BIL) (enacted as the Infrastructure Investment and Jobs Act, Pub. L. 117-58) provided an additional $1,029,000,000 in advance appropriations for FY 2024 grants after accounting for the authorized takedown for administrative and oversight expenses and the Office of Inspector General (OIG). A grand total of $1,103,963,762 is being made available for the FY 2024 Low-No Program under this notice, subject to appropriations. Additional funds made available prior to project selection may be allocated to eligible projects.

As required by Federal public transportation law (49 U.S.C. 5339(c)(5)), a minimum of 25 percent of the amount awarded under the Low-No Program will be awarded to low-emission projects other than zero-emission vehicles and related facilities. For FY 2024, $275,990,941 is specifically set aside by law for low-emission projects through the Low-No Program.

In FY 2023, the Low-No program received applications for 210 projects requesting a total of $4,199,934,378. Eighty-three projects were funded for a total of $1,216,941,396.

Federal public transportation law (49 U.S.C. 5338(a)(2)(N)) authorizes $393,559,749 in FY 2024 funds for the Buses and Bus Facilities Program. After the oversight takedown of $3,513,926, FTA is announcing the availability of $390,045,823 for the Buses and Bus Facilities Program through this notice, subject to appropriations. Additional funds made available prior to project selection may be allocated to eligible projects.

As required by Federal public transportation law at 49 U.S.C. 5339(b)(5), a minimum of 15 percent of the amount awarded under the Buses and Bus Facilities Program will be awarded to projects located in rural areas. As required by 49 U.S.C. 5339(b)(8), no single grant recipient will be awarded more than 10 percent of the amount made available. In FY 2023, the program received applications for 265 projects requesting a total of $4,492,423,860. Forty-seven projects were funded for a total of $472,922,707.

An applicant may submit a project to both the Buses and Bus Facilities Program and the Low-No Program, or submit the project only to the Low-No Program or only to the Buses and Bus Facilities Program. Applicants are encouraged to submit projects for consideration under both programs whenever practicable. A project submitted to both programs must be eligible in its entirety under both programs, and therefore must be a low or no emission project with no standard propulsion vehicles or facilities and equipment unrelated to low or no emission bus implementation, and must request or provide a scalable amount of no more than the equivalent of 10 percent of the funding available under the Buses and Bus Facilities Program. If a project submitted for consideration under both programs is selected for funding, FTA will exercise its discretion to determine under which program the project will receive an award. Please note that if submitting to both programs, the application package must be submitted twice at GRANTS.GOV, once to funding opportunity ID FTA-2024-003-TPM-LWNO for Low-No and once to FTA-2024-004-TPM-BUS for Buses and Bus Facilities. If there are not enough eligible requests for either the low-emission set-aside under the Low-No Program or the rural set-aside under the Buses and Bus Facilities Program, and eligible applications that would qualify under either of those set-asides were submitted only to the other program, FTA may contact such applicants to request additional information in order to consider them under the program for which they would satisfy a statutory set-aside.

FTA may cap the amount a single recipient or State may receive as part of the selection process for either program.

FTA will grant pre-award authority to incur costs for selected projects beginning on the date FY 2024 project selections are announced on FTA's website. Funds are available for obligation for three fiscal years after the fiscal year in which the competitive awards are announced. Funds are available only for eligible costs incurred after announcement of project selections. FTA intends to fund as many meritorious projects as possible.

C. Eligibility Information

1. Eligible Applicants

Eligible applicants for the Low or No Emission Program include designated recipients, States (including territories and Washington, DC), local governmental authorities, and Indian tribes. To be considered eligible, applicants must be able to demonstrate the requisite legal, financial, and technical capabilities to receive and administer Federal funds under this program. Assistance on this requirement is available from FTA's Regional Offices.

Eligible applicants for the Buses and Bus Facilities Program include designated recipients that allocate funds to fixed route bus operators, States (including territories and Washington, DC), or local governmental entities that operate fixed route bus service, and Indian tribes. Eligible subrecipients include all otherwise eligible applicants and also private nonprofit organizations engaged in public transportation. Eligible subrecipients are not required to operate fixed route bus service.

Except for projects proposed by Indian tribes, all proposals for projects in rural (non-urbanized) areas—defined as any area that has not been designated in the 2020 Census as an “urban area” with at least 50,000 in population by the Secretary of Commerce—must be submitted by a State, either individually or as part of a consolidated State application. States and other eligible applicants may also submit consolidated proposals for projects in urbanized areas. The submission of a statewide or consolidated urbanized area application does not preclude any other eligible recipients in an urbanized area or in a State from also submitting a separate application. Proposals may contain projects to be implemented by the recipient or its subrecipients.

As permitted under Federal public transportation law (49 U.S.C. 5339(b)(10), (c)(8)), an applicant proposing a low or no emission project under both the Buses and Bus Facilities Program and the Low-No Program, or an applicant proposing only a low or no emission project under the Low-No program, may include partnerships with other entities that intend to participate in the implementation of the project, including, but not limited to, specific vehicle manufacturers, equipment vendors, owners or operators of related facilities, or project consultants. If an application that involves such a partnership is selected for funding, the project will be deemed to satisfy the requirement for a competitive procurement under 49 U.S.C. 5325(a) for the named entities. Applicants are advised that any changes to the proposed partnership will require FTA written approval, must be consistent with the scope of the approved project, and may necessitate a competitive procurement.

2. Cost Sharing or Matching

The maximum Federal share for projects that involve leasing or acquiring transit buses (including clean fuel or alternative fuel vehicles) for purposes of complying with or maintaining compliance with the Clean Air Act (CAA) or the Americans with Disabilities Act (ADA) of 1990 is 85 percent of the net project cost.

The maximum Federal share for the cost of acquiring, installing, or constructing vehicle-related equipment or facilities (including clean fuel or alternative fuel vehicle-related equipment or facilities) for purposes of complying with or maintaining compliance with the CAA or ADA is 90 percent of the net project cost of such equipment or facilities that are attributable to compliance with the CAA or ADA. The award recipient must itemize the cost of specific, discrete, vehicle-related equipment or facility components associated with compliance with the CAA or ADA to be eligible for the maximum 90 percent Federal share for these costs. The Federal share of the cost of other projects shall not exceed 80 percent.

Eligible sources of match include the following: cash from non-Government sources other than revenues from providing public transportation services; revenues derived from the sale of advertising and concessions; amounts received under a service agreement with a State or local social service agency or private social service organization; revenues generated from value capture financing mechanisms; funds from an undistributed cash surplus; replacement or depreciation cash fund or reserve; new capital; or in-kind contributions. Transportation development credits or in-kind match may be used for local match if identified and documented in the application. Other Federal funds from non-U.S. Department of Transportation sources may only be used as match (Federal fund braiding) if the proposed project is eligible under the other Federal program and the other Federal program providing the matching funds expressly authorizes its funds to fulfill the match requirement of other Federal programs. Learn more about Federal fund braiding at https://www.transit.dot.gov/regulations-and-programs/ccam/about/coordinating-council-access-and-mobility-ccam-federal-fund.

3. Eligible Projects

Under the Low-No Program (49 U.S.C. 5339(c)), eligible projects include projects or programs of projects in an eligible area for: (1) purchasing or leasing low or no emission buses; (2) acquiring low or no emission buses with a leased power source; (3) constructing or leasing facilities and related equipment for low or no emission buses; (4) constructing new public transportation facilities to accommodate low or no emission buses; or (5) rehabilitating or improving existing public transportation facilities to accommodate low or no emission buses (49 U.S.C. 5339(c)(1)(B)). As required by Federal public transportation law (49 U.S.C. 5339(c)(5)), FTA will consider only eligible projects relating to the acquisition or leasing of low or no emission buses or bus facilities that make greater reductions in energy consumption and harmful emissions than comparable standard buses or other low or no emission buses. A single application may include both vehicle and facility components, along with associated equipment and workforce development plans.

A low or no emission bus is defined as a passenger vehicle used to provide public transportation that sufficiently reduces energy consumption or harmful emissions, including direct carbon emissions, when compared to a standard vehicle. The statutory definition includes zero-emission transit buses, which are defined as buses that produce no direct carbon emissions and no particulate matter emissions under any and all possible operational modes and conditions. Examples of zero-emission bus technologies include, but are not limited to, hydrogen fuel-cell buses, battery-electric buses, and rubber tire trolley buses powered by overhead catenaries. All new transit bus models must successfully complete FTA bus testing for production transit buses pursuant to FTA's Bus Testing regulation (49 CFR part 665) in order to be procured with funds awarded under the Low-No Program. All transit vehicles must be procured from certified transit vehicle manufacturers in accordance with the Disadvantaged Business Enterprise (DBE) regulations (49 CFR part 26). The development or deployment of prototype vehicles is not eligible for funding under the Low-No Program.

Eligible projects for the Buses and Bus Facilities Program include capital projects to replace, rehabilitate, purchase, or lease buses, vans, or related equipment; or to rehabilitate, purchase, construct, or lease bus-related facilities regardless of propulsion type or emissions. A single application may include both vehicle and facility components, along with associated equipment and workforce development activities.

Recipients are permitted to use up to 0.5 percent of their requested grant award for workforce development activities eligible under Federal public transportation law (49 U.S.C. 5314(b)), including on-the-job training, labor-management partnership training, and registered apprenticeships, and an additional 0.5 percent for costs associated with training at the National Transit Institute. Supportive services are an eligible use of program funds under 49 U.S.C. 5314(b). Supportive services are critical to help women and people facing systemic barriers to employment be able to participate and thrive in training and employment. Supportive services include childcare, tools, work clothing, application fees and other costs of apprenticeship or required pre-employment training, transportation and travel to training and work sites, and services aimed at helping to retain underrepresented groups such as mentoring, support groups, and peer networking. See: https://www.transit.dot.gov/funding/grants/federal-transit-administration-faqs-supportive-services.

For applicants proposing any project related to zero-emission vehicles (including vehicles, facilities, equipment, etc.) for either program, 5 percent of the total requested Federal amount attributable to zero-emission project components, including the workforce development activities but not including the required local share, must be used for workforce development to retrain the existing workforce and develop the workforce of the future, including registered apprenticeships and other joint labor-management training programs, as outlined in the applicant's Zero-Emission Transition Plan (see Section E(1)(c) of this notice), as well as supportive services, unless the applicant certifies via the application that less funding is needed to carry out the Plan. Applicants must identify the proposed use of funds for these activities in the project proposal and identify them separately in the project budget. These amounts are additional, not a take-down, from other eligible project expenses. For example, if an application includes a Federal request of $95,000 for total capital costs of zero-emission vehicles and associated equipment, an additional Federal request of $5,000 should be included in the budget for workforce development expenses for a total Federal request of $100,000. The local share for the vehicles, equipment, and workforce development is in addition to the $100,000 Federal request. Applicants are encouraged to discuss training needs with their workforce and to develop training plans in collaboration with unions and other workforce representatives, as well as with workforce boards, community colleges, and other workforce organizations. Applicants that propose not to use the full 5 percent available must include an explanation as to why the funds are not needed.

If a single project proposal involves multiple public transportation providers, such as when an agency acquires vehicles that will be operated by another agency, the proposal must include a detailed statement regarding the role of each public transportation provider in the implementation of the project.

D. Application and Submission Information

1. Address to Request Application Package

Applications must be submitted electronically through GRANTS.GOV. General information for accessing and submitting applications through GRANTS.GOV can be found at https://www.transit.dot.gov/howtoapply along with specific instructions for the forms and attachments required for submission. Mail or fax submissions of completed proposals will not be accepted. A complete proposal submission for each program consists of two forms: the SF-424 Application for Federal Assistance (available at GRANTS.GOV) and the supplemental form for the FY 2024 Low-No and Buses and Bus Facilities Programs (downloaded from GRANTS.GOV or the FTA website at https://www.transit.dot.gov/funding/grants/lowno). The same supplemental form will be used to apply to either program or both programs. However, please note that if an applicant is applying to both programs, they must submit the materials through each of the GRANTS.GOV opportunity IDs listed for each program. Failure to submit the information as requested can delay review or disqualify the application.

2. Content and Form of Application Submission

a. Proposal Submission

A complete proposal submission for each program consists of two forms: (1) the SF-424 Application for Federal Assistance; and (2) the supplemental form for the FY 2024 Low-No and Buses and Bus Facilities Programs. The supplemental form and any supporting documents must be attached to the “Attachments” section of the SF-424. The application must include responses to all sections of the SF-424 Application for Federal Assistance and the supplemental form, unless indicated as optional. The information on the supplemental form will be used to determine applicant and project eligibility for the program, and to evaluate the proposal against the selection criteria described in Section E of this notice.

FTA will accept only one supplemental form per SF-424 submission. FTA encourages States and other applicants to consider submitting a single supplemental form that includes multiple activities to be evaluated as a consolidated proposal. If a State or other applicant chooses to submit separate proposals for individual consideration by FTA, each proposal must be submitted using a separate SF-424 and supplemental form.

Applicants may attach additional supporting information to the SF-424 submission, including but not limited to letters of support, project budgets, fleet status reports, or excerpts from relevant planning documents. Applicants for zero-emission projects must attach the fleet transition plan. Any supporting documentation must be described and referenced by file name in the appropriate response section of the supplemental form, or it may not be reviewed.

Information such as applicant name, Federal amount requested, local match amount, description of areas served, etc. may be requested in varying degrees of detail on both the SF-424 and supplemental form. Applicants must fill in all fields unless stated otherwise on the forms. If information is copied into the supplemental form from another source, applicants should verify that pasted text is fully captured on the supplemental form and has not been truncated by the character limits built into the form. Applicants should use both the “Check Package for Errors” and the “Validate Form” validation buttons on both forms to check all required fields on the forms, and ensure that the Federal and local amounts specified are consistent. Applicants should enter their information in the supplemental form (fillable PDF) that is made available on FTA's website or through the GRANTS.GOV application package and should attach this to the application in its original format. Applicants should not use scanned versions of the form, “print” the form to PDF, convert or create a version using another text editor, etc.

Projects proposed by Indian tribes that request less than $1 million in Federal funds do not need to provide a narrative response for the following criteria on the Supplemental Form: Demonstration of Benefits; Planning and Local/Regional Prioritization; Technical, Legal, and Financial Capacity; or any of Section IV Additional Considerations.

The Department may share application information within the Department or with other Federal agencies if the Department determines that sharing is relevant to the respective program's objectives.

b. Application Content

The SF-424 Application for Federal Assistance and the supplemental form will prompt applicants for the required information, including:

i. Applicant name.

ii. Unique Entity ID (UEI) assigned by SAM.GOV.

iii. Key contact information (including contact name, address, email address, and phone).

iv. Congressional district(s) where project will take place.

v. Project information (including title, an executive summary, and type).

vi. A detailed description of the need for the project.

vii. A detailed description on how the project will support either Program's objectives.

viii. Evidence that the project is consistent with local and regional planning documents.

ix. Evidence that the applicant can provide the local cost share.

x. A description of the technical, legal, and financial capacity of the applicant.

xi. A detailed project budget identifying the amounts requested, amounts of other Federal funds, if any, and amounts of non-Federal funds.

xii. An explanation of the scalability of the project—Applicants are encouraged to identify scaled funding options in case insufficient funding is available to fund a project at the full requested amount. If an applicant indicates that a project is scalable, the applicant must provide an appropriate minimum funding amount that will fund an eligible project that achieves the objectives of the program and meets all relevant program requirements. Proposed scalable projects must still result in a station or passenger facility with full accessibility to and usability by persons with disabilities, including persons who use wheelchairs. The applicant must provide a clear explanation of how the project budget would be affected by a reduced award. FTA may award a lesser amount regardless of whether a scalable option is provided.

xiii. Details on the non-Federal matching funds.

xiv. Details on any other Federal funds awarded or applied for.

xv. A detailed project timeline.

xvi. Address all the applicable criteria and priority considerations identified in Section E.

Except for the information properly marked as described in Section H, the Department may share application information within the Department or with other Federal agencies if the Department determines that sharing is relevant to the respective program's objectives.

3. Unique Entity Identifier and System for Award Management (SAM)

Each applicant is required to: (1) be registered in SAM.GOV before submitting an application; (2) provide a valid unique entity identifier in its application; and (3) continue to maintain an active SAM.GOV registration with current information at all times during which the applicant has an active Federal award or an application or plan under consideration by FTA. These requirements do not apply if the applicant has an exemption approved by FTA pursuant to 2 CFR 25.110(c), or is otherwise excepted from registration requirements. FTA may not make an award until the applicant has complied with all applicable unique entity identifier and SAM.GOV requirements. If an applicant has not fully complied with the requirements by the time FTA is ready to make an award, FTA may determine that the applicant is not qualified to receive an award and use that determination as a basis for making a Federal award to another applicant.

All applicants must provide a unique entity identifier provided by SAM.GOV. Registration in SAM.GOV may take as little as 3-5 business days, but since there could be unexpected steps or delays (for example, if there is a need to obtain an Employer Identification Number), FTA recommends allowing ample time, up to several weeks, for completion of all steps. For additional information on obtaining a unique entity identifier, please visit https://www.sam.gov/.

4. Submission Dates and Times

Project proposals must be submitted electronically through GRANTS.GOV by 11:59 p.m. Eastern time on April 25, 2024. GRANTS.GOV attaches a time stamp to each application at the time of submission. Proposals submitted after the deadline will only be considered under extraordinary circumstances not under the applicant's control. Mail and fax submissions will not be accepted.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

FTA urges applicants to submit applications at least 72 hours prior to the due date to allow time to receive the validation messages and to correct any problems that may have caused a rejection notification. GRANTS.GOV scheduled maintenance and outage times are announced on the GRANTS.GOV website. Deadlines will not be extended due to scheduled website maintenance.

Applicants are encouraged to begin the process of registration on the GRANTS.GOV site well in advance of the submission deadline. Registration is a multi-step process, which may take several weeks to complete before an application can be submitted. Registered applicants may still be required to take steps to keep their registrations up to date before submissions can be made successfully. For example, (1) registration in SAM.GOV is renewed annually, and (2) persons making submissions on behalf of the Authorized Organization Representative (AOR) must be authorized in GRANTS.GOV by the AOR to make submissions.

5. Funding Restrictions

Funds under this NOFO cannot be used to reimburse applicants for otherwise eligible expenses incurred prior to FTA award of a grant agreement until FTA has issued pre-award authority for selected projects. FTA will issue pre-award authority to incur costs for selected projects beginning on the date that project selections are announced. FTA does not provide pre-award authority for competitive funds until projects are selected, and even then, there are Federal requirements that must be met before costs are incurred. FTA will issue specific guidance to awardees regarding pre-award authority at the time of selection. For more information about FTA's policy on pre-award authority, please see the most recent Apportionment Notice on FTA's website. Refer to Section C.3., Eligible Projects, for information on activities that are allowable in this grant program. Allowable direct and indirect expenses must be consistent with the Governmentwide Uniform Administrative Requirements and Cost Principles (2 CFR part 200) and FTA Circular 5010.1E. Funds may not be used to support or oppose union organizing.

6. Other Submission Requirements

All applications must be submitted via the GRANTS.GOV website. FTA does not accept applications on paper, by fax, email, or other means. For information on application submission requirements, please see Section D.1. of this notice, Address to Request Application.

E. Application Review Information

1. Criteria

Projects will be evaluated primarily on the responses provided in the supplemental form. Additional information may be provided to support the responses; however, any additional documentation must be directly referenced on the supplemental form, including the file name where the additional information can be found. FTA will evaluate proposals based on the criteria described in this notice.

Projects proposed by Indian tribes that request less than $1 million in Federal funds only need to provide complete narrative responses to the Demonstration of Need and Local Financial Commitment criteria and a partial response to the Project Implementation Strategy criterion, consisting of a project timeline as well as (if applicable) a discussion on their proposed partner's qualifications. All applicants that are proposing a zero-emission project, including tribes requesting less than $1 million, are required by law to submit a Zero-Emission Fleet Transition Plan.

If an applicant is proposing to deploy autonomous vehicles or other innovative motor vehicle technology, the application should demonstrate that all vehicles will comply with applicable safety requirements, including those administered by the National Highway Traffic Safety Administration (NHTSA) and Federal Motor Carrier Safety Administration (FMCSA). Specifically, the application should show that vehicles acquired for the proposed project will comply with applicable Federal Motor Vehicle Safety Standards (FMVSS) and Federal Motor Carrier Safety Regulations (FMCSR). If the vehicles may not comply, the application should either (1) show that the vehicles and their proposed operations are within the scope of an exemption or waiver that has already been granted by NHTSA, FMCSA, or both agencies or (2) directly address whether the project will require exemptions or waivers from the FMVSS, FMCSR, or any other regulation and, if the project will require exemptions or waivers, present a plan for obtaining them.

a. Demonstration of Need

Since the purpose of these programs is to fund vehicles and facilities, applications will be evaluated based on the quality and extent to which they demonstrate how the proposed project will address an unmet need for capital investment in vehicles and/or supporting facilities. For example, an applicant may demonstrate that it requires additional or improved charging or maintenance facilities for low or no emission vehicles, that it intends to replace existing vehicles that have exceeded their minimum useful life, or that it requires additional vehicles to meet current ridership demands or expand services to better connect underserved communities.

FTA will evaluate an applicant's responses to the following criteria when assessing the need for capital investment underlying the proposed project:

For bus projects (replacement or expansion):

For replacement requests, applicants must provide information on the age, condition, and performance of the vehicles to be replaced by the proposed project. Vehicles to be replaced must have met their minimum useful life at the time of project completion. For service expansion requests, applicants must provide information on the proposed service expansion and the benefits for transit riders and the community from the new service. For all vehicle projects, the proposal must address whether the project conforms to FTA's spare ratio guidelines. Vehicles funded under these programs are not exempt from FTA's standard spare ratio requirements, which apply to and are calculated based on the agency's entire fleet. Applicants that are introducing zero-emission vehicles into their fleet may consider including vehicles that have already met their minimum useful life in a contingency fleet, which is not included in the spare ratio calculation. Additionally, applicants who may need to exceed the spare ratio for a temporary period are encouraged to work with their FTA Regional Office to determine what flexibilities may be afforded to them and include reference to that in their application.

For bus facility and equipment projects (replacement, rehabilitation, or expansion):

For replacement requests, applicants must provide information on the age and condition of the asset to be rehabilitated or replaced relative to its minimum useful life. For expansion requests, applicants must provide information on the proposed expansion and the reason that transit riders and the community need the expansion.

b. Demonstration of Benefits

i. Low or No Emissions Program

Applicants to the Low-No Program must demonstrate how the proposed project will support the statutory requirements of the Low-No Program (See 49 U.S.C. 5339(c)(5)(A)). In particular, FTA will evaluate the quality and extent to which applications demonstrate how the proposed project will: (1) Reduce Energy Consumption; (2) Reduce Harmful Emissions; and (3) Reduce Direct Carbon Emissions.

Reduce Energy Consumption: Applicants must describe how the proposed project will reduce energy consumption. FTA will evaluate applications based on the degree to which the proposed technology reduces energy consumption as compared to comparable standard vehicle propulsion technologies.

Reduce Harmful Emissions: Applicants must demonstrate how the proposed vehicles or facility will reduce the emission of particulates that create local air pollution, which leads to local environmental health concerns, smog, and unhealthy ozone concentrations. FTA will evaluate the rate of particulate emissions by the proposed vehicles or vehicles to be supported by the proposed facility, compared to the emissions from the vehicles that will be replaced or moved to the contingency fleet as a result of the proposed project, as well as comparable standard buses.

Reduce Direct Carbon Emissions: Applicants should demonstrate how the proposed vehicles or facility will reduce emissions of greenhouse gases from transit vehicle operations. FTA will evaluate the rate of direct carbon emissions by the proposed vehicles or vehicles to be supported by the proposed facility, compared to the emissions from the vehicles that will be replaced or moved to the contingency fleet as a result of the proposed project, as well as comparable standard buses.

ii. Grants for Buses and Bus Facilities Program

Applicants to the Buses and Bus Facilities Program will be evaluated based on how well they describe how the proposed project will improve the safety of the transit system; improve the condition of, or otherwise modernize, the transit system; and enhance access and mobility within the service area, including improving reliability of service for riders, particularly for low-income or underserved communities and people with disabilities.

Safety: FTA will evaluate the potential for projects to provide positive safety benefits for all users, while not negatively impacting safety for all users. Applicants may describe how the project will reduce the frequency of safety events and/or improve the outcomes of safety events.

System Condition: FTA will evaluate the potential for replacement projects to improve the condition of the transit system by rehabilitating or replacing assets that are in poor condition or have surpassed their minimum or intended useful life benchmarks. Applicants may describe the benefits of reducing breakdowns and service interruptions; increasing service performance; and/or reducing the cost of maintaining outdated vehicles, facilities, and equipment.

Enhanced Access and Mobility: FTA will evaluate the potential for expansion projects to improve access and mobility for the transit riding public, particularly for low-income and underserved communities and people with disabilities, including improved headways, creation of new transportation choices, or eliminating gaps in the current route network. Proposed benefits should be based on documented ridership demand, based on indicators like area population density, employment served, and existing and planned affordable housing in the corridor, and be well-described or documented through a study or route planning proposal.

Applicants that intend to apply to both programs must submit information that addresses the requirements of both programs as described above.

c. Planning and Local or Regional Prioritization

FTA will evaluate how the applicant demonstrates that the proposed project is consistent with local and regional long-range planning documents and local government priorities. FTA will evaluate applications based on the quality and extent to which the project is consistent with the transit priorities identified in the long-range plan for all proposals; contingency or illustrative projects included in that plan; or the locally developed human services public transportation coordinated plan. Applicants may submit copies of the relevant pages of such plans to support their application. FTA will consider how the project will support regional goals and applicants may submit support letters from local and regional planning organizations attesting to the consistency of the proposed project with these plans. Applicants are encouraged to also consult DOT's Promising Practices for Meaningful Public Involvement in Transportation Decision-Making at https://www.transportation.gov/priorities/equity/promising-practices-meaningful-public-involvement-transportation-decision-making.

Evidence of additional local or regional prioritization may include letters of support for the project from local government officials, public agencies, and non-profit or private sector supporters.

Applicants may also address how the proposed project will impact overall system performance, asset management performance, or specific performance measures tracked and monitored by the applying entity to demonstrate how the proposed project will address local and regional planning priorities.

For applications related to zero-emission vehicles (including vehicles, facilities, equipment, etc.) under either the Low-No or Buses and Bus Facilities programs, applicants are required by law (49 U.S.C. 5339(c)(3)(D)) to submit a Zero-Emission Fleet Transition Plan, including tribes that are requesting less than $1 million. This plan must be a separate document from other local or regional planning documents and must: (1) demonstrate a long-term fleet management plan with a strategy for how the applicant intends to use the current application and future acquisitions; (2) address the availability of current and future resources to meet costs for the transition and implementation; (3) consider policy and legislation impacting relevant technologies; (4) include an evaluation of existing and future facilities and their relationship to the technology transition; (5) describe the partnership of the applicant with the utility or alternative fuel provider; and (6) examine the impact of the transition on the applicant's current workforce by identifying skill gaps, training needs, and retraining needs of the existing workers of the applicant to operate and maintain zero-emission vehicles and related infrastructure and avoid the displacement of the existing workforce. FTA has developed resources for applicants regarding the development of this plan which can be found at https://www.transit.dot.gov/funding/grants/zero-emission-fleet-transition-plan. For agencies with smaller fleets, a fleet transition plan need not be complex and should be tailored as applicable, but it still must address all six elements. For applications from State departments of transportation, the State may either provide a fleet transition plan that covers some or all of the subrecipients, attach individual plans developed by the subrecipients, or a combination of both.

d. Local Financial Commitment

FTA will evaluate if the applicant identified the source of the local cost share and described whether such funds are currently available for the project or will need to be secured if the project is selected for funding. FTA will evaluate the availability of the local cost share as evidence of local financial commitment to the project. FTA will evaluate if the applicant submitted evidence of the availability of funds for the project; for example, by including a board resolution, letter of support from the State, a budget document highlighting the line item or section committing funds to the proposed project, or other documentation of the source of local funds. FTA will favorably view an applicant that proposes to use grant funds only for the incremental cost of new technologies over the cost of replacing vehicles with standard propulsion technologies. The applicant should also identify other Federal funds the applicant is applying for or has been awarded, if any, that the applicant intends to use.

e. Project Implementation Strategy

FTA will rate projects higher if grant funds can be obligated within 12 months of selection and the project can be implemented within a reasonable time frame. In assessing when funds can be obligated, FTA will consider whether the project qualifies for a Categorical Exclusion (CE), or whether the required environmental work has been initiated or completed for projects that require an Environmental Assessment (EA) or Environmental Impact Statement (EIS) under the National Environmental Policy Act of 1969 (NEPA). As such, applicants should submit information describing the project's anticipated path and timeline through the environmental review process for all proposals, including those that may qualify for a CE. The proposal must state when grant funds can be obligated and indicate the timeframe under which the Metropolitan Transportation Improvement Program (TIP) and Statewide Transportation Improvement Program (STIP) can be amended to include the proposed project.

In assessing whether the proposed implementation plans are reasonable and complete, FTA will review the proposed project implementation plan, including all necessary project milestones and the overall project timeline. For projects that will require formal coordination, approvals, or permits from other agencies or project partners, the applicant must demonstrate coordination with these organizations and their support for the project, such as through letters of support.

Applicants that have identified a cooperative procurement strategy listed in Section 3019 of the Fixing America's Surface Transportation Act (Pub. L. 114-94; 49 U.S.C. 5325, note) are encouraged to describe the method chosen as part of their implementation plans and how such a cooperative procurement will reduce costs.

For proposals that involve a partnership with a manufacturer, vendor, consultant, or other third party, applicants must identify by name any project partners, including, but not limited to, other transit agencies, bus manufacturers, owners or operators of related facilities, or any expert consultants. Such partnerships are permitted under Federal public transportation law (49 U.S.C. 5339(b)(10), (c)(8)) only for applicants proposing a low or no emission project under both the Buses and Bus Facilities Program and the Low-No Program, or for applicants proposing only a low or no emission project under the Low-No program. FTA will evaluate the experience and capacity of the named project partners to successfully implement the proposed project based on the partners' experience and qualifications. Applicants are advised to submit information on the partners' qualifications and experience as a part of the application. Entities to be involved in the project that are not named in the application must be selected through ordinary procurement processes.

f. Technical, Legal, and Financial Capacity

FTA will evaluate if the applicant demonstrates that they have the technical, legal, and financial capacity to undertake the project.

FTA will review relevant oversight assessments and records to determine whether there are any outstanding legal, technical, or financial issues with the applicant that would affect the outcome of the proposed project. Applicants with outstanding legal, technical, or financial compliance issues from an FTA compliance review or grant-related Single Audit finding must explain how corrective actions taken will mitigate negative impacts on the proposed project.

2. Review and Selection Process

A technical evaluation committee will evaluate proposals based on the published evaluation criteria. FTA may request additional information from applicants, if necessary. Based on the review of the technical evaluation committee, the FTA Administrator will determine the final selection of projects for program funding. In determining the allocation of program funds, FTA may consider geographic diversity, diversity in the size of the transit systems receiving funding, whether an applicant is from a small urban or rural area or is a tribal government, and the applicant's receipt of other competitive awards. FTA may also consider capping the amount a single applicant may receive.

After applying the above criteria, to support efficient and cost-effective vehicle procurements, FTA will provide priority consideration to applicants that identify their intent to use a procurement method that reduces vehicle customization, by either: identifying an intent for a joint procurement with at least three total transit agencies using a common specification; or, for low and no emission projects where the applicant proposes a vehicle OEM as a project partner, committing to using a standard vehicle model without customizations and including a letter from the vehicle OEM that certifies the applicant will use the OEM's standard model (see Section E.1.e. and Section C.1. of this notice for information on the partnership provision). The applicant should identify the proposed approach, other partners if applicable, and how the procurement approach reduces vehicle customization. FTA will evaluate each project on its own merits but may select an application that does not rate as highly as others if the applicant indicates its intent to pursue a joint procurement with other more highly rated participants in that procurement. FTA intends to weight this priority consideration greater than others.

To strengthen the American vehicle manufacturing industry and reduce the financial burden the industry currently faces, FTA will give priority consideration to applicants that identify their intent to use contract terms that provide funding to vehicle OEMs earlier in the production process, either by using advance payments or progress payments. For applicants that identify their intent to use advance payments, FTA will not require securitization beyond the advance payment amount. The applicant should identify how their proposed contracting terms will expedite payments to vehicle OEMs. FTA also intends to weight this priority consideration greater than others. The contract terms of selected applications may be reviewed by FTA prior to award.

To address climate change and improve sustainability, FTA will give priority consideration to applications that are expected to create significant community benefits relating to the environment, including those projects that incorporate low or no emission technology or specific elements to address greenhouse gas emissions and climate change impacts. For facility projects, FTA will give priority consideration to applications that include elements to strengthen the resilience of the community and/or the transit system with regard to climate change.

FTA will also prioritize a zero-emission project higher than other zero-emission projects if the applicant is able to demonstrate how the proposed project and fleet transition plan support the conversion of the agency's overall fleet to zero emissions.

Among vehicle applications that include at least 20 zero-emission 40-foot buses, FTA will give priority consideration to applications that identify greater emission reductions. To be considered for priority consideration, vehicle applications for at least 20 zero-emission 40-foot buses must use the FTA Bus and Low-No Emission Reduction Calculator, which can be found at https://www.transit.dot.gov/funding/grants/fta-bus-and-low-no-emission-reduction-calculator, attach the file, and include the amount of reductions per vehicle in the supplemental form.

Among zero-emission applications, FTA will give priority consideration to zero-emission applicants that are able to demonstrate that they have consulted with workforce representatives on all aspects of the workforce section of the fleet transition plan; and include steps to provide or connect workers to supportive services (such as childcare and transportation assistance); and identify the use of at least one of the following in their plan (1) use of labor-management partnerships for training; (2) use of registered apprenticeship training to support skilling of incumbent and entry-level workers with focus on using registered apprenticeship to advance Black, Hispanic, Asian American, Native Hawaiian and Pacific Islanders, tribal, women, and other groups facing systemic barriers to employment that may be underrepresented in the current workforce, especially in higher-paying jobs.

FTA will also provide priority consideration for applicants that describe how their projects support workforce development, job quality, and wealth creation as follows:

Applicants for facility projects should identify whether they will commit to registered apprenticeship positions and use apprentices on the funded facility project, sometimes called an apprenticeship utilization requirement (e.g., requiring that a certain percent of all labor hours will be performed by registered apprentices); AND detail partnerships with high-quality workforce development programs with supportive services to help train, place, and retain underrepresented communities in jobs and registered apprenticeships on the facility project; and, for facility projects over $35 million in total project cost, whether the project will use a Project Labor/Community Workforce Agreement AND, for facility projects over $35 million, whether the recipient commits to participate in the U.S. Department of Labor's Office of Federal Contract Compliance Programs (OFCCP) Mega Construction Project Program if selected by OFCCP (see F.2.e. Federal Contract Compliance).

FTA will also give priority consideration to projects that support the Justice40 initiative. In support of Executive Order 14008, DOT uses a geographic definition of Disadvantaged Communities as part of its implementation of the Justice40 Initiative. Consistent with the Interim Guidance for the Justice40 Initiative (see: https://www.transportation.gov/priorities/equity/justice40/resources), Disadvantaged Communities include (a) certain qualifying census tracts identified as disadvantaged due to categories of environmental, climate, and socioeconomic burdens, as identified by the Climate and Economic Justice Screening Tool, and (b) any federally Recognized tribes or tribal entities, whether or not they have land. Applicants should use the Climate & Economic Justice Screening Tool (CEJST), a tool created by the White House Council on Environmental Quality (CEQ), that aims to help Federal agencies identify disadvantaged communities as part of the Justice40 initiative to accomplish the goal that 40 percent of overall benefits from certain Federal investments reach disadvantaged communities. See https://screeningtool.geoplatform.gov/. Applicants should use the CEJST as the primary tool to identify disadvantaged communities (Justice40 communities). Applicants are strongly encouraged to supplement their use of the CEJST by employing the USDOT Equitable Transportation Community (ETC) Explorer to understand how their community or project area is experiencing disadvantage related to lack of transportation investments or opportunities. Through understanding how a community or project area is experiencing transportation-related disadvantage, applicants are able to address how the benefits of a project will reverse or mitigate the burdens of disadvantage and demonstrate how the project will address challenges and accrued benefits. See https://www.transportation.gov/priorities/equity/justice40/etc-explorer. Additionally, in support of the Justice40 Initiative, the applicant also should provide evidence of any strategies that the applicant has used in the planning process to seek out and consider the needs of those disadvantaged by existing transportation systems including public and community engagement. For technical assistance using either mapping tool, please contact GMO@dot.gov.

Due to funding limitations, projects that are selected for funding may receive less than the amount originally requested, even if an application did not present a scaled project option. In those cases, applicants must be able to demonstrate that the proposed projects are still viable and can be completed with the amount awarded. See also https://static-data-screeningtool.geoplatform.gov/data-versions/1.0/data/score/downloadable/CEQ-CEJST-Instructions.pdf.

3. Integrity and Performance Review

Prior to making an award with a total amount of Federal share greater than the simplified acquisition threshold (currently $250,000), FTA is required to review and consider any information about the applicant that is in the Federal Awardee Performance and Integrity Information Systems (FAPIIS) accessible through SAM.GOV. An applicant may review and comment on information about itself that a Federal awarding agency previously entered. FTA will consider any comments by the applicant, in addition to the other information in FAPIIS, in making a judgment about the applicant's integrity, business ethics, and record of performance under Federal awards when completing the review of risk posed by applicants as described in 2 CFR 200.206.

F. Federal Award Administration Information

1. Federal Award Notices

FTA will announce the final project selections on the FTA website. Selectees should contact their FTA Regional Offices for additional information regarding allocations for projects. At the time the project selections are announced, FTA will extend pre-award authority for the selected projects (see Section D.5 of this notice for more information). There is no blanket pre-award authority for these projects before announcement.

2. Administrative and National Policy Requirements

a. Grant Requirements

If selected, awardees will apply for a grant through FTA's Transit Award Management System (TrAMS). Recipients of funding in urban areas according to the 2020 Census are subject to the grant requirements of the Urbanized Area Formula Grants program (49 U.S.C. 5307), including those of FTA Circular “Urbanized Area Formula Program: Program Guidance and Application Instructions” (FTA.C.9030.1E). Recipients of funding in rural areas according to the 2020 Census are subject to the grant requirements of the Formula Grants for Rural Areas Program (49 U.S.C. 5311), including those of FTA Circular “Formula Grants for Rural Areas: Program Guidance and Application Instructions” (FTA.C.9040.1G). All recipients must accept the FTA Master Agreement and follow FTA Circular “Award Management Requirements” (FTA.C.5010.1E) and the labor protections required by Federal public transportation law (49 U.S.C. 5333(b)). Technical assistance regarding these requirements is available from each FTA regional office.

By submitting a grant application, the applicant assures that it will comply with all applicable Federal statutes, regulations, executive orders, directives, FTA circulars and other Federal administrative requirements in carrying out any project supported by the FTA grant, including the Davis-Bacon Act (40 U.S.C. 3141-3144, and 3146-3148) as supplemented by Department of Labor regulations (29 CFR part 5, “Labor Standards Provisions Applicable to Contracts Covering Federally Financed and Assisted Construction”). Further, the applicant acknowledges that it is under a continuing obligation to comply with the terms and conditions of the grant agreement issued for its project with FTA. The applicant understands that Federal laws, regulations, policies, and administrative practices might be modified from time to time and may affect the implementation of the project. The applicant agrees that the most recent Federal requirements will apply to the project unless FTA issues a written determination otherwise. The applicant must submit the Certifications and Assurances before receiving a grant if it does not have current certifications on file.

Applicants for the Buses and Bus Facilities Program are encouraged to utilize the innovative procurement practices found in Section 3019 of the Fixing America's Surface Transportation Act (49 U.S.C. 5325, note). Please see details at https://www.transit.dot.gov/funding/grants/innovative-procurement-leasing-fact-sheet-section-3019. If selected for funding, any project that purchases fewer than five buses through a standalone procurement must provide a written explanation why the tools authorized under Section 3019 were not utilized.

As authorized by Section 25019 of the BIL, applicants are encouraged to implement a local or other geographical or economic hiring preference relating to the use of labor for construction of a project funded by the grant, including pre-hire agreements, subject to any applicable State and local laws, policies, and procedures.

b. Buy America and Domestic Preferences for Infrastructure Projects

As expressed in Executive Order 14005, Ensuring the Future Is Made in All of America by All of America's Workers (86 FR 7475), the Executive Branch should maximize, consistent with law, the use of goods, products, and materials produced in, and services offered in, the United States. Therefore, all capital procurements must comply with FTA's Buy America requirements (49 U.S.C. 5323(j)), which require that all iron, steel, and manufactured products be produced in the United States. In addition, any award must comply with the Build America, Buy America Act (BABA) (Pub. L. 117-58, sections 70901-27). BABA provides that none of the funds provided under an award made pursuant to this notice may be used for a project unless all iron, steel, manufactured products, and construction materials are produced in the United States. FTA's Buy America requirements are consistent with BABA requirements for iron, steel, and manufactured products.

Any proposal that will require a waiver of any domestic preference standard must identify the items for which a waiver will be sought in the application. Applicants should not proceed with the expectation that waivers will be granted.

c. Civil Rights Requirements

As a condition of a grant award, grant recipients should demonstrate that the recipient has a plan for compliance with civil rights obligations and nondiscrimination laws, including Title VI of the Civil Rights Act of 1964 and implementing regulations (49 CFR part 21), the Americans with Disabilities Act of 1990 (ADA), and Section 504 of the Rehabilitation Act, all other civil rights requirements, and accompanying regulations. This should include a current Title VI plan, completed Community Participation Plan (alternatively called a Public Participation Plan and often part of the overall Title VI program plan), if applicable. DOT's and the applicable Operating Administrations' Office of Civil Rights may work with awarded grant recipients to ensure full compliance with Federal civil rights requirements.

d. Disadvantaged Business Enterprise

Recipients of planning, capital, or operating assistance that will award prime contracts (excluding transit vehicle purchases), the cumulative total of which exceeds $250,000 in FTA funds in a Federal fiscal year, must comply with the Disadvantaged Business Enterprise (DBE) program regulations (49 CFR part 26).

To be eligible to bid on any FTA-assisted vehicle procurement, entities that manufacture transit vehicles or perform post-production alterations or retrofitting must be certified Transit Vehicle Manufacturers (TVM). If a vehicle remanufacturer is responding to a solicitation for new or remanufactured vehicles with a vehicle to which the remanufacturer has provided post-production alterations or retrofitting (e.g., replacing major components such as engine to provide a “like new” vehicle), the vehicle remanufacturer must be a certified TVM.

The TVM rule requires that, prior to bidding on any FTA-assisted vehicle procurement, manufacturers of transit vehicles submit a DBE Program plan and annual goal methodology to FTA. FTA then will issue a TVM concurrence and certification letter. Grant recipients must verify each manufacturer's TVM status before accepting its bid. A list of compliant, certified TVMs is posted on FTA's website at https://www.transit.dot.gov/TVM. Recipients should contact FTA before accepting a bid from a manufacturer not on this list. In lieu of using a certified TVM, a recipient may establish project-specific DBE goals for its vehicle procurement. FTA will provide additional guidance as grants are awarded. For more information on DBE requirements, please contact Monica McCallum, FTA Office of Civil Rights, 206-220-7519, Monica.McCallum@dot.gov.

e. Federal Contract Compliance

As a condition of grant award and consistent with E.O. 11246, Equal Employment Opportunity (30 FR 12319, and as amended), all federally assisted construction contractors are required to make good faith efforts to meet the goals of 6.9 percent of construction project hours being performed by women, in addition to goals that vary based on geography for construction work hours and for work being performed by minorities. Under Section 503 of the Rehabilitation Act and its implementing regulations, affirmative action obligations for certain contractors include an aspirational employment goal of 7 percent workers with disabilities.

The U.S. Department of Labor's Office of Federal Contract Compliance Programs (OFCCP) is charged with enforcing Executive Order 11246, Section 503 of the Rehabilitation Act of 1973, and the Vietnam Era Veterans' Readjustment Assistance Act of 1974. OFCCP has a Mega Construction Project Program through which it engages with project sponsors as early as the design phase to help promote compliance with non-discrimination and affirmative action obligations. OFCCP may identify construction projects that receive an award under this notice that have a project cost above $35 million to participate in OFCCP's Mega Construction Project Program. If selected and the applicant agrees to participate, OFCCP will ask selected project sponsors to make clear to prime contractors in the pre-bid phase that award terms may require their participation in the Mega Construction Project Program. Additional information on how OFCCP makes their selections for participation in the Mega Construction Project Program is outlined under “Scheduling” on the Department of Labor website: https://www.dol.gov/agencies/ofccp/faqs/construction-compliance. As authorized by Section 25019 of the BIL, applicants are encouraged to implement a local or other geographical or economic hiring preference relating to the use of labor for construction of a project funded by the grant, including pre-hire agreements, subject to any applicable State and local laws, policies, and procedures.

f. Critical Infrastructure Security, Cybersecurity, and Resilience

It is the policy of the United States to strengthen the security and resilience of its critical infrastructure against all hazards, including physical and cyber risks, consistent with Presidential Policy Directive 21—Critical Infrastructure Security and Resilience, and the National Security Memorandum on Improving Cybersecurity for Critical Infrastructure Control Systems. Each applicant selected for Federal funding must demonstrate, prior to the signing of the grant agreement, effort to consider and address physical and cyber security risks relevant to the transportation mode and type and scale of the project. Projects that have not appropriately considered and addressed physical and cyber security and resilience in their planning, design, and project oversight, as determined by the Department and the Department of Homeland Security, will be required to do so before receiving funds. FTA implements this requirement as follows:

Pursuant to 49 U.S.C. 5323(v), a recipient that operates a rail fixed guideway public transportation system must certify that the recipient has established a process to develop, maintain, and execute a written plan for identifying and reducing cybersecurity risks. Recipients subject to this requirement must:

1. Utilize the approach described by the voluntary standards and best practices developed under section 2(c)(15) of the National Institute of Standards and Technology Act (15 U.S.C. 272(c)(15)), as applicable;

2. Identify hardware and software that the recipient determines should undergo third-party testing and analysis to mitigate cybersecurity risks, such as hardware or software for rail rolling stock under proposed procurements; and

3. Utilize the approach described in any voluntary standards and best practices for rail fixed guideway public transportation systems developed under the authority of the Secretary of Homeland Security, as applicable.

For information about standards or practices that may apply to a rail fixed guideway public transportation system, visit https://www.nist.gov/cyberframework and https://www.cisa.gov/.

TSA issued Security Directive 1582-21-01B, “Enhancing Public Transportation and Passenger Railroad Cybersecurity” on October 24, 2023. The Security Directive, which extends previous Security Directives, applies to all public passenger rail owners and operators identified in 49 CFR 1582.101, requires four critical actions:

1. Designate a cybersecurity coordinator who is required to be available to TSA and the DHS's CISA at all times (all hours/all days) to coordinate implementation of cybersecurity practices, and manage of security incidents, and serve as a principal point of contact with TSA and CISA for cybersecurity-related matters;

2. Report cybersecurity incidents to CISA;

3. Develop a Cybersecurity Incident Response Plan to reduce the risk of operational disruption should their Information and/or operational technology systems be affected by a cybersecurity incident; and

4. Conduct a cybersecurity vulnerability assessment using the form provided by TSA and submit the form to TSA. The vulnerability assessment will include an assessment of current practices and activities to address cyber risks to information and operational technology systems, identify gaps in current cybersecurity measures, and identify remediation measures and a plan for the owner/operator to implement the remediation measures to address any vulnerabilities and gaps.

Applicants subject to the Directive must certify compliance with the directive to receive the grant award.

In addition, TSA issued Information Circular IC-2021-01, “Enhancing Surface Transportation Cybersecurity”, dated December 31, 2021, which applies to each passenger railroad, public transportation agency, or rail transit system owner/operator identified in 49 CFR 1582.1. This circular provides the same four recommendations for enhancing cybersecurity practices listed above. While this document is guidance and does not impose any mandatory requirements, TSA strongly recommends the adoption of the measures set forth in the circular.

Finally, on February 10, 2023, FTA published a Cybersecurity Assessment Tool for Transit (CATT) (https://www.transit.dot.gov/research-innovation/cybersecurity-assessment-tool-transit-catt). This tool was developed with the goal to onboard public transit organizations develop and strengthen their cybersecurity program to identify risks and prioritize activities to mitigate these risks.

g. Planning

FTA encourages applicants to notify the appropriate State Departments of Transportation and Metropolitan Planning Organizations (MPOs) in areas likely to be served by the project funds made available under this program. Selected projects must be incorporated into the long-range plans and transportation improvement programs of States and metropolitan areas before they are eligible for FTA funding.

h. Performance and Program Evaluation

As a condition of grant award, grant recipients may be required to participate in an evaluation undertaken by DOT or another agency or partner. The evaluation may take different forms such as an implementation assessment across grant recipients, an impact and/or outcomes analysis of all or selected sites within or across grant recipients, or a benefit/cost analysis or assessment of return on investment. As a part of the evaluation, as a condition of award, grant recipients must agree to: (1) make records available to the evaluation contractor or DOT staff; (2) provide access to program records, and any other relevant documents to calculate costs and benefits; (3) in the case of an impact analysis, facilitate the access to relevant information as requested; and (4) follow evaluation procedures as specified by the evaluation contractor or DOT staff.

Recipients and subrecipients are also encouraged to incorporate program evaluation including associated data collection activities from the outset of their program design and implementation to meaningfully document and measure their progress towards meeting an agency priority goal(s). Title I of the Foundations for Evidence-Based Policymaking Act of 2018 (Evidence Act), Public Law 115-435 urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, part 6 section 290).

3. Reporting

Post-award reporting requirements include the electronic submission of Federal Financial Reports and Milestone Progress Reports in FTA's electronic grants management system. Recipients of funds made available through this NOFO are also required to regularly submit data to the National Transit Database. Recipients should include any goals, targets, and indicators referenced in their applications in the Executive Summary of the TrAMS application.

FTA is committed to making evidence-based decisions guided by the best available science and data. In accordance with the Foundations for Evidence-based Policymaking Act of 2018 (Evidence Act), FTA may use information submitted in discretionary funding applications; information in FTA's Transit Award Management System (TrAMS), including grant applications, Milestone Progress Reports (MPRs), Federal Financial Reports (FFRs); transit service, ridership and operational data submitted in FTA's National Transit Database; documentation and results of FTA oversight reviews, including triennial and State management reviews; and other publicly available sources of data to build evidence to support policy, budget, operational, regulatory, and management processes and decisions affecting FTA's grant programs.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this Notice, the recipient must comply with the Recipient Integrity and Performance Matters reporting requirements described in Appendix XII to 2 CFR part 200.

G. Federal Awarding Agency Contacts

For further information concerning this notice, please email FTALowNoBusNOFO@dot.gov, or call Kirsten Wiard-Bauer, FTA Office of Program Management, at 202-366-7052. A TDD is available for individuals who are deaf or hard of hearing at 800-877-8339. In addition, FTA will post answers to questions and requests for clarifications on FTA's website at https://www.transit.dot.gov/funding/grants/low-no-and-buses-and-bus-facilities-faqs. To ensure applicants receive accurate information about eligibility or the program, applicants are encouraged to contact FTA with questions directly, rather than through intermediaries or third parties.

For issues with GRANTS.GOV, please contact GRANTS.GOV by phone at 1-800-518-4726 or by email at support@grants.gov. Contact information for FTA's regional offices can be found on FTA's website at https://www.transit.dot.gov/about/regional-offices/regional-offices.

H. Other Information

User-friendly information and resources regarding DOT's discretionary grant programs relevant to rural applicants can be found on the Rural Opportunities to Use Transportation for Economic Success (ROUTES) website at https://www.transportation.gov/rural.

This program is not subject to Executive Order 12372, “Intergovernmental Review of Federal Programs.”

All information submitted as part of or in support of any application shall use publicly available data or data that can be made public and methodologies that are accepted by industry practice and standards, to the extent possible. If an applicant submits information the applicant considers to be a trade secret or confidential commercial or financial information, the applicant must provide that information in a separate document, which the applicant may reference from the application narrative or other portions of the application. For the separate document containing confidential information, the applicant must do the following: (1) state on the cover of that document that it “Contains Confidential Business Information (CBI);” (2) mark each page that contains confidential information with “CBI;” (3) highlight or otherwise denote the confidential content on each page; and (4) at the end of the document, explain how disclosure of the confidential information would cause substantial competitive harm. FTA will protect confidential information complying with these requirements to the extent required under applicable law. If FTA receives a Freedom of Information Act (FOIA) request for the information that the applicant has marked in accordance with this section, FTA will follow the procedures described in DOT's FOIA regulations at 49 CFR 7.29. Only information that is in the separate document, marked in accordance with this section, and ultimately determined to be confidential will be exempt from disclosure under FOIA.

Veronica Vanterpool,
Deputy Administrator.

[FR Doc. 2024-02246 Filed 2-7-24; 8:45 am]

BILLING CODE 4910-57-P